DEPARTMENT OF AGRICULTURE

Forest Service

Notice of New Fee Site, Federal Lands Recreation Enhancement Act, (Title VIII, Pub. L. 108-447)

AGENCY: Eldorado National Forest, USDA Forest Service.

ACTION: Notice of proposed new fee site.

SUMMARY: The Eldorado National Forest is planning to charge a $10 fee for the overnight camping and a $5 fee for extra vehicles at the Lovers Leap Campground, located on the Placerville Ranger District. This existing campground has been available for use without a fee prior to this time. Funds from the new campground fees will be used for the continued operation and maintenance of Lovers Leap Campground. The Eldorado National Forest currently has 14 other campgrounds at which fees are charged under the Recreation Enhancement Act. These campgrounds are often fully booked throughout the use season. A business analysis of Lover's Leap Campground has shown that people desire having this sort of recreation experience on the Eldorado National Forest. A market analysis indicates that the $10/per night fee and $5/per extra vehicle is both reasonable and acceptable for this sort of unique recreation experience. Use of the campground will remain on a first come/first serve basis. Advance reservations will not be available.

DATES: The new fees at Lovers Leap Campground will become effective May 1, 2008.

ADDRESSES: Forest Supervisor, Eldorado National Forest, 100 Forni Road, Placerville, CA 95667.

FOR FURTHER INFORMATION CONTACT: Diana Erickson, Recreation Fee Coordinator, (530) 621-5214.

SUPPLEMENTARY INFORMATION: The Federal Recreation Lands Enhancement Act (Title VII, Pub. L. 108-447) directed the Secretary of Agriculture to publish a six month advance notice in the Federal Register whenever new recreation fee areas are established. This new fee will be reviewed by a Recreation Resource Advisory Committee prior to a final decision and implementation.

Dated: May 8, 2007.
Ramiro Villalvazo,
Eldorado National Forest Supervisor.

[FR Doc. 07-2352 Filed 5-11-07; 8:45 am]

BILLING CODE 3410-11-M